FEDERAL COMMUNICATIONS COMMISSION

47 CFR Part 73

[MB Docket No. 21-126; RM-11893; DA 22-25; FR ID 67334]

Television Broadcasting Services Monroe, Louisiana

AGENCY: Federal Communications Commission.

ACTION: Final rule.

SUMMARY: On September 22, 2021, the Media Bureau, Video Division (Bureau) issued a Notice of Proposed Rulemaking (NPRM) in response to a petition for rulemaking filed by Gray Television Licensee, LLC (Petitioner), the licensee of KNOE-TV, channel 8, Monroe, Louisiana, requesting the substitution of channel 24 for channel 8 at Monroe in the Table of Allotments. For the reasons set forth in the Report and Order referenced below, the Bureau amends FCC regulations to substitute channel 24 for channel 8 at Monroe.

DATES: Effective January 20, 2022.

FOR FURTHER INFORMATION CONTACT: Joyce Bernstein, Media Bureau, at (202) 418-1647 or Joyce.Bernstein@fcc.gov.

SUPPLEMENTARY INFORMATION: The proposed rule was published at 86 FR 54417 on October 1, 2021. The Petitioner filed comments in support of the petition reaffirming its commitment to apply for channel 24. The Petitioner states that the Commission has recognized the deleterious effects of manmade noise from nearby electrical devices including on the reception of digital VHF signals and that the propagation characteristics of VHF channels allow undesired signals and noise to be receivable at relatively farther distances compared to UHF channels. In addition, no existing viewers will lose service and an additional 12,868 persons would gain service if the channel substitution is granted.

This is a synopsis of the Commission's Report and Order, MB Docket No. 21-126; RM-11893; DA 22-25, adopted January 11, 2022, and released January 11, 2022. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622(j), amend the Table of Allotments, under Louisiana, by revising the entry for Monroe to read as follows:

§ 73.622 Digital television table of allotments.

* * * * *

(j) * * *

Community | Channel No.
* * * * *
LOUISIANA
* * * * *
Monroe | * 13, 24
* * * * *

[FR Doc. 2022-01001 Filed 1-19-22; 8:45 am]

BILLING CODE 6712-01-P